DEPARTMENT OF STATE

[Public Notice 3826]

Bureau of Educational and Cultural Affairs Request for Grant Proposals: Exchanges and Training Programs for Europe and Eurasia: Armenia, Azerbaijan, Georgia, Kazakhstan, Kyrgyzstan, Russia, Turkmenistan, Ukraine, and Uzbekistan

SUMMARY: The Office of Citizen, Europe/Eurasia Division, of the Bureau of Educational and Cultural Affairs announces an open competition for Exchanges and Training Programs for Europe and Eurasia: Armenia, Azerbaijan, Georgia, Kazakhstan, Kyrgyzstan, Russia, Turkmenistan, Ukraine, and Uzbekistan.

Public and private non-profit organizations meeting the provisions described in Internal Revenue Code section 26 USC 501(c)(3) may submit proposals to conduct exchanges and training programs.

Program Information

Overview

The Bureau of Educational and Cultural Affairs (ECA) invites applicants to submit proposals that encourage the growth of democratic institutions in Armenia, Azerbaijan, Georgia, Kazakhstan, Kyrgyzstan, Russia, Turkmenistan, Ukraine, and Uzbekistan. (Note: The Department previously referred to this region as the New Independent States (NIS). It is now being referenced as Europe and Eurasia.) Exchanges and training programs supported by institutional grants from ECA should operate at two levels: they should enhance institutional partnerships, and they should offer practical information to individuals and groups to assist them with their professional and volunteer responsibilities.

Strong proposals usually have the following characteristics: an active, existing partnership between a U.S. organization and an in-country institution(s); a proven successful track record for conducting program activity; cost-sharing from U.S. and in-country sources, including donations of air fares, hotel and/or housing costs, ground transportation, interpreters, room rentals, etc.; experienced staff with language ability; a clear, convincing plan outlining exactly how the program components will be carried out and how permanent results will be accomplished as a result of the grant; and a follow-on plan that extends beyond the ECA grant period. Knowledge of the current technological capacity (Internet connectivity, email, hardware and software) of in-country partners and their countries and/or regions, and a description of the role of technology in the proposed program, are essential. Cost sharing, which should be included in the budget, must be in tangible forms, both in-kind and monetary. Cost sharing may be contributed to the program by the prospective grantee institution, in-country partners and by third party sources.

Unless otherwise specified below: (1) Program activity may include: “training of trainers (TOT),” internships, short-term training, consultations, study tours, site visits, and extended, intensive workshops; and (2) programming may take place in the United States and/or, when possible, in Armenia, Azerbaijan, Georgia, Kazakhstan, Kyrgyzstan, Russia, Turkmenistan, Ukraine, and Uzbekistan. Proposals should reflect a practical understanding of the current political, economic and social environment that is relevant to the theme addressed in the proposal. In order to avoid the duplication of activities and programs, proposals should also indicate knowledge of similar projects being conducted in the region.

Applicants are expected to identify the U.S. and in-country partner organizations and individuals with whom they are proposing to collaborate and describe in detail previous cooperative projects. Specific information about in-country partners' activities and accomplishments is required and should be included in the section on “Institutional Capacity.” Resumes for individuals mentioned in the proposal should be provided, including proposed U.S. and in-country staff, trainers, consultants, etc. Letters of support from partner organizations as well as internship and site visit hosts should be included in the proposal.

Programs should be designed so that the sharing of information and training that occurs during the grant period will continue long after the grant period is over. Proven methods of sustainability include, but are not limited to: a model TOT program that would include initial training, practice presentation sessions for the in-country participants, followed by training activities coordinated and implemented by the in-country participants in their home countries; a commitment to create or support in-country training/resource centers; plans to create online communities, professional networks or professional associations; regularly published electronic and/or hard-copy newsletters; and ongoing mentoring through Internet communication.

To be eligible for a grant award under this competition, the proposed training and exchange programs must address one of the following specific themes for single country projects. Multi-country projects are not eligible for this competition. Proposals for projects in Belarus, Moldova and Tajikistan are not eligible.

• Media Training (Armenia or Azerbaijan or Kazakhstan or Kyrgyzstan or Russia)

• Press Spokesperson Training (Georgia or Uzbekistan)

• Tourism and Economic Development (Armenia or Ukraine)

• Business Development (Azerbaijan)

• Library Exchanges (Georgia or Ukraine)

• Youth Issues (Russia)

• Civil Rights (Kazakhstan)

• Lawmaker Exchange (Turkmenistan)

• Public Health (Russia)

Media Training

ECA is interested in proposals from applicants who possess a thorough understanding of the current state and needs of the media in Armenia, Azerbaijan, Kazakhstan, Kyrgyzstan and Russia. Training activities should not duplicate the work done under recent or existing media training programs, but should complement those efforts. Proposals should include in-country and U.S.-based training activities for journalists and/or media outlet managers. When proposing a U.S.-based component, the program should include a hands-on internship training component at an appropriate media outlet. For these internships, the names of those media outlets willing to host participants should be provided, and the applicant should describe why these media establishments have been chosen. Internships may be developed for individuals or small groups consisting of not more than three persons. If the small group format is used, the internships must have a practical program component with hands-on experience. Efforts should be made to recruit participants who possess a working knowledge of the English language. If participants who do not speak English are nominated for the U.S.-based program, the applicant should explain how the interpreting needs of those participants will be met. In-country activities may include workshops and seminars. These seminars and workshops may be led by the participants themselves, or by U.S. trainers. Continuous activities, including mentoring and consultations between U.S.-based trainers/hosts and participants, should be conducted throughout the life of the grant and described in detail.

For Armenia

Media programs for Armenia should focus on television production and broadcasting. Programs should include a two-way exchange whereby an expert (or experts) in production and broadcast techniques will travel to Armenia to conduct practical seminars. At the conclusion of the seminars, the experts, in consultation with the Public Affairs Section (PAS) at the American Embassy in Yerevan, will designate teams composed of journalists and cameramen, as well as producers to be sent to the U.S. for an internship of approximately one month at comparable television stations.

For Azerbaijan

Media programs for Azerbaijan should promote the development of an independent media sector that is both professionally competent and economically viable. Print and/or broadcast media may be addressed, but all projects should include a two-way exchange and include hands-on internships in the U.S. that emphasize methods of income generation, better fiscal management practices, and a commitment to objective reporting.

For Kazakhstan

Media training for Kazakhstan should include a two-way exchange and offer hands-on internships in the U.S. that emphasize methods of income generation, better fiscal management practices, and a commitment to objective reporting. Programs designed for Kazakhstan should also emphasize the role of media in reporting on minority and conflict issues.

For Kyrgyzstan

Media training for Kyrgyzstan should concentrate on teaching objective reporting, ethical standards, and business management skills for professionals in print media. The program should involve a two-way exchange that links Kyrgyz and U.S. media institutions. Participants should include faculty from departments of journalism, and media managers and journalists from independent media outlets from both countries. Awareness of Kyrgyz cultural issues and the media climate in Kyrgyzstan is essential.

For Russia

For Russia, media programs should include a two-way exchange and include hands-on, U.S.-based internships that emphasize developing new methods of income generation, better fiscal management practices, and a commitment to objective reporting. Participants must be recruited from cities outside of Moscow and St. Petersburg. Applicants should explain in detail activities and components that will ensure long-term relationships between the Russian participants and their U.S. hosts.

Press Spokespersons Training

For Georgia

ECA welcomes proposals that provide an in-depth, comprehensive training program that will raise the level of professionalism among Georgian government spokespersons and introduce them to their U.S. counterparts. Program activities should cover such topics as how public affairs offices function in government; the importance of transparency in government; communicating openly with citizens and journalists; crisis communication; strategic planning; press office management; and the provision of accurate, timely information to the public. Applicants should have a good understanding of the cultural contexts in Georgia. Training should include a two-way exchange.

For Uzbekistan

ECA is interested in proposals that provide intensive, hands-on training to Uzbek national and government spokespersons as well as spokespersons from non-governmental entities. Proposals should focus on public affairs and public information as they are handled by government and non-governmental institutions. Program activities should cover such topics as how public affairs offices function in government; the importance of transparency in government; communicating openly with citizens and journalists; crisis communication; strategic planning; press office management; and the provision of accurate, timely information to the public.

Programs should consist of a Washington, DC, component, including meetings with the public affairs offices and spokespersons of federal agencies and departments, as well as meetings and shadowing experiences with state or local governments and non-governmental organizations. A train-the-trainers component should be included. In-country workshops should also be implemented, during which Uzbek participants from the U.S. program will work as co-trainers, and will reach out to a larger audience of Uzbek governmental and non-governmental spokespersons. Media representatives should also participate in the in-country training program.

The Public Affairs Section (PAS) in Tashkent will be responsible for selecting participants through an open, merit-based process designed jointly by the grantee and PAS.

Tourism and Economic Development

For Armenia

ECA is seeking a project that will match Armenian tourism professionals with their U.S. colleagues for professional exchange and consultations. The central training component of the program should be a one-month, interactive internship for Armenian tourism professionals at tourism service providers in the U.S. Visits to Armenia by U.S. hosts may also be conducted. Networking among the Armenian and U.S. participants should be facilitated throughout the grant period to ensure ongoing cooperation.

For Ukraine

This project should provide an opportunity for local government and business leaders from Ukraine to examine the experience of U.S. towns and cities, where preservation of cultural heritage and historic sites has been combined with tourism infrastructure development. Strategies that have led to reversing economic decline (i.e. aggressive marketing and the incorporation of heritage tourism into local economic development plans) should be examined. ECA is seeking proposals that will allow U.S. communities to share this experience and expertise with Ukrainian local governments, NGOs, and business leaders in selected smaller cities with potential for the development of cultural tourism. Multiple trips in both directions, including a hands-on, U.S.-based internship or study tour, should be proposed. Continuous communication, mentoring, and consultations between Ukrainian participants and trainers/mentors, should be described in detail and conducted throughout the life of the grant.

Business Development

For Azerbaijan

ECA welcomes proposals that will foster the development of small and medium businesses in Azerbaijan. Given the international community's focus on the energy sector, projects should involve other industries. Topics to be addressed may cover management, marketing, business-government relations, use of innovative business technologies and business association development. Programs may include a variety of training opportunities such as internships, hands-on workshops and case studies. Azeri participants should be linked with U.S. counterparts with similar work responsibilities, in order to ensure ongoing professional interaction.

Library Exchanges

For Georgia

One of the many challenges libraries in Georgia are facing is a lack of continuing education for their staff. This is due to information isolation and lack of finances to support this type of service. Georgian library professionals would benefit greatly from exposure to U.S. libraries and library professionals. Projects should match Georgian library employees with their U.S. colleagues from similar-sized libraries for training and consultations by means of reciprocal visits and virtual communication. One or multiple trips between the U.S. and Georgia by library professionals may be proposed. Continuous activities, including mentoring and consultations between partnered libraries, should be conducted throughout the life of the grant and described in detail.

For Ukraine

U.S. libraries, whose traditional role has been changing in recent years, have much to offer their Ukrainian counterparts. Recently, a program called the Library Electronic Access Project (LEAP) was launched in Ukraine. (http://usinfo.usemb.kiev.ua/press/010307—leap eng.html). The purpose of the LEAP project is to assist participating libraries with the development of Internet access projects for its local users. In addition, participating libraries will work together in setting up standardized training approaches, and will network with one another and share their experiences in order to identify and utilize best practices. ECA is seeking projects that build on LEAP's foundation by facilitating interaction and exchange between U.S. library professionals and LEAP libraries. This exchange should focus on transforming these libraries into community resource centers that will serve as communication facilitators between citizens and local government, as educational outreach centers, and as focus points for civic involvement. One or multiple trips between the U.S. and Ukraine by library professionals may be proposed.

Youth Issues

For Russia

ECA is seeking projects that focus on how NGOs and communities can organize productive and attractive activities for young people. Participants should be representatives of youth-oriented NGOs and local government entities charged with managing youth programs. Topics to be addressed might include community service, vocational training, and drug and alcohol awareness. Projects should include a U.S. component. Small, provincial cities in Russia should be targeted.

Civil Rights

For Kazakhstan

In Kazakhstan, people lack a general understanding of their civil rights, specifically knowledge of existing laws. ECA is seeking a project that would support a public education campaign on laws, legislation, and citizen rights. Project activities should be primarily conducted in Kazakhstan, but may include U.S.-based training activities, if justified. Grantees should partner with NGOs in Kazakhstan that are working to address human rights concerns. One such NGO is “The International Bureau of Human Rights and the Rule of Law.” (http://www.bureau.kz/index eng.shtml). Project partnerships with other local organizations may also be proposed.

Lawmaker Exchange

For Turkmenistan

ECA is seeking projects that will provide members of Turkmenistan's parliament, the Mejlis, with the opportunity to meet with U.S. members of Congress, state-level lawmakers, lawyers, and other individuals involved in or knowledgeable of the U.S. lawmaking process, in order to gain a better understanding of their role as parliamentarians in the lawmaking process. The central project activity should be a training visit to Washington, DC and a state capital that would include shadowing of members of Congress and state-level lawmakers, and interactive discussions with lawyers and other experts on lawmaking and governance. Of particular interest to participants will likely be the congressional committee system and the other group structures used for lawmaking management. Visits to Turkmenistan by U.S. lawmakers and experts may also be proposed. Grantee organizations will work very closely with the U.S. Embassy in Ashgabat throughout the project.

Public Health

For Russia

Russia's difficult transition to a market economy has had negative effects on the public health system throughout the country and has weakened the government's ability to respond to and raise awareness of serious public health issues, such as tuberculosis, HIV/AIDS, alcoholism and sexually transmitted diseases.

ECA welcomes proposals that are designed to improve public health standards and awareness in regions throughout Russia. Specifically, ECA is interested in training and exchanges that will improve the skills of local and regional government officials whose responsibilities include developing public health policy, disease control and prevention, and emergency management issues. Proposals should stress how health officials and non-governmental entities collaborate to view public health as a regional policy issue. Programs should provide practical, hands-on methodologies to strengthen participants' skills and may consist of a two-way exchange that includes shadowing opportunities, case studies, internships and interactive workshops. Applicants should plan a broad-based training workshops. Applicants should plan a broad-based training program for a particular region that includes exposure to comparable U.S. public health models.

Guidelines

Pending the availability of FY-2002 funding, it is anticipated that approximately one to two projects for each country listed under each topic will be supported. Subject to the availability of funds, ECA anticipates that grant periods will begin in August, 2002.

Selection of Participants

Except in cases noted above where the Embassies' Public Affairs Sections will nominate participants, a competitive selection process is required. The majority of proposals should include a description of an open, merit-based participant selection process, including advertising, recruitment and selection. A sample application should be submitted with the proposal. Applicants should expect to carry out the entire selection process, with the understanding that ECA and the Public Affairs Sections of the U.S. Embassies abroad must be consulted during the recruitment and selection procedures. ECA and the U.S. Embassies retain the right to nominate participants and to approve or reject participants recommended by the grantee institution. Priority must be given to foreign participants who have not traveled to the United States.

Visa Regulations

Foreign participants on programs sponsored by ECA are granted J-1 Exchange Visitor visas by the U.S. Embassy in the sending country. All programs must comply with J-1 visa regulations. Please refer to the Proposal Submission Instructions (PSI) for further information.

Project Funding

Budget Guidelines

Although no set funding limit exists, proposals for less than $150,000 will receive preference. Grants awarded to eligible organizations with less than four years of experience in conducting international exchange programs will be limited to $60,000. Applicants must submit a comprehensive line item budget based on the model in the Proposal Submission Instructions, but are encouraged to provide the optional separate sub-budgets for each program component, location or activity in order to facilitate decisions on funding. Applicants should include a budget narrative or budget notes for clarification of each line item.

Cost sharing: Since ECA's grant assistance constitutes only a portion of total project funding, proposals should list and provide evidence of other sources of cost sharing, including financial and in-kind support. Proposals with substantial private sector support from foundations, corporations, and other institutions will be considered highly competitive. Please refer to the statement on cost sharing in the Proposal Submission Instructions.

The Following Program Costs Are Eligible for Funding Consideration

1. Transportation. International and domestic airfares (per the Fly America Act), transit costs, ground transportation costs, and visas for U.S. participants (visas for ECA-supported participants from Europe and Eurasia to travel to the U.S. are issued at no charge).

2. Per Diem. For U.S.-based programming, organizations should use the published Federal per diem rates for individual U.S. cities. For activities in Europe and Eurasia, ECA strongly encourages applicants to budget realistic costs that reflect the local economy. Domestic per diem rates may be accessed at: http://www.policyworks.gov/ and foreign per diem rates can be accessed at: http://www.state.gov/www/perdiems/index.html.

3. Interpreters. Local interpreters with adequate skills and experience may be used for program activities. Typically, one interpreter is provided for every four visitors who require interpreting, with a minimum of two interpreters. ECA grants do not pay for foreign interpreters to accompany delegations from their home country. Salary costs for local interpreters must be included in the budget. Costs associated with using their services may not exceed rates for U.S. Department of State interpreters. ECA strongly encourages applicants to use local interpreters. U.S. Department of State Interpreters may be used for highly technical programs with the approval of the Office of Citizen Exchanges. Proposal budgets should contain a flat $170/day per diem for each U.S. Department of State interpreter, as well as home-program-home air transportation of $400 per interpreter, reimbursements for taxi fares, plus any other transportation expenses during the program. Salary expenses are covered centrally and should not be part of an applicant's proposed budget.

4. Book and cultural allowance. Foreign participants are entitled to a one-time cultural allowance of $150 per person, plus a book allowance of $50. Interpreters should be reimbursed up to $150 for expenses when they escort participants to cultural events. U.S. program staff, trainers or participants are not eligible to receive these benefits.

5. Consultants. Consultants may be used to provide specialized expertise or to make presentations. Daily honoraria cannot exceed $250 per day. Subcontracting organizations may also be used, in which case the written agreement between the prospective grantee and subcontractor should be included in the proposal. Subcontracts should be itemized in the budget.

6. Room rental. Room rental may not exceed $250 per day.

7. Materials development. Proposals may contain costs to purchase, develop and translate materials for participants. ECA strongly discourages the use of automatic translation software for the preparation of training materials or any information distributed to the group of participants or network of organizations. Costs for good-quality translation of materials should be anticipated and included in the budget. Grantee organizations should expect to submit a copy of all program materials to ECA.

8. Equipment. Proposals may contain costs to purchase equipment for Europe/Eurasia-based programming such as computers, fax machines and copy machines. Costs for furniture are not allowed. Equipment costs must be kept to a minimum.

9. Working meal. Only one working meal may be provided during the program. Per capita costs may not exceed $5-8 for a lunch and $14-20 for a dinner, excluding room rental. The number of invited guests may not exceed participants by more than a factor of two-to-one. Interpreters must be included as participants.

10. Return travel allowance. A return travel allowance of $70 for each foreign participant may be included in the budget. The allowance may be used for incidental expenses incurred during international travel.

11. Health Insurance. Foreign participants will be covered under the terms of a Bureau-sponsored health insurance policy. The premium is paid by ECA directly to the insurance company. Applicants are permitted to include costs for travel insurance for U.S. participants in the budget.

12. Administrative Costs. Costs necessary for the effective administration of the program may include salaries for grantee organization employees, benefits, and other direct and indirect costs per detailed instructions in the Application Package. While there is no rigid ratio of administrative to program costs, priority will be given to proposals whose administrative costs are less than twenty-five (25) per cent of the total requested from ECA. Proposals should show strong administrative cost-sharing contributions from the applicant, the in-country partner and other sources.

Please refer to the Proposal Submission Instructions (PSI) for complete budget guidelines.

Announcement Title and Number: All correspondence with ECA concerning this RFGP should reference the above title and number ECA/PE/C/EUR-02-32.

FOR FURTHER INFORMATION CONTACT:

By mail: United States Department of State, SA-44, Bureau of Educational and Cultural Affairs, Office of Citizen Exchanges (ECA/PE/C), Room 220, Washington, DC 20547, attn: Europe and Eurasia Exchanges & Training.

By phone: Tel: (202) 619-5328 (Kendra Davis), (202) 619-5327 (Henry Scott); fax: 202-619-4350.

By e-mail: kldavis@pd.state.gov or hscott@pd.state.gov.

Interested applicants may request the Application Package, which includes the Request for Grant Proposals (RFGP) and the Proposal Submission Instructions (PSI). Please specify Kendra Davis or Henry Scott on all inquiries and correspondence.

Please read the complete Federal Register announcement before sending inquiries or submitting proposals. Once the RFGP deadline has passed, Bureau staff may not discuss this competition with applicants until the proposal review process has been completed.

To Download a Solicitation Package Via Internet

The entire Solicitation Package may be downloaded from ECA's web site at http://exchanges.state.gov/education/RFGPs. Please read all information before downloading.

Deadline for Proposals

All proposal copies must be received at the Bureau of Educational and Cultural Affairs by 5 p.m. Washington, DC time on Friday, January 25, 2002. Faxed documents will not be accepted at any time. Documents postmarked the due date but received on a later date will not be accepted. Each applicant must ensure that the proposals are received by the above deadline.

Applicants must follow all instructions in the Solicitation Package. The original and eight copies (unbound) of the application should be sent to:

U.S. Department of State, SA-44, Bureau of Educational and Cultural Affairs, Ref.: ECA/PE/C/EUR-02-32, Program Management, ECA/EX/PM, Room 534, 301 4th Street, SW., Washington, DC 20547.

Diversity, Freedom and Democracy Guidelines

Pursuant to ECA's authorizing legislation, programs must maintain a non-political character and should be balanced and representative of the diversity of U.S. political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity’ section for specific suggestions on incorporating diversity into the total proposal. Pub. L. 104-319 provides that “in carrying out programs of educational and cultural exchange in countries whose people do not fully enjoy freedom and democracy,” ECA “shall take appropriate steps to provide opportunities for participation in such programs to human rights and democracy leaders of such countries.” Pub. L. 106-113 requires that the governments of the countries described above do not have inappropriate influence in the selection process. Proposals should reflect advancement of these goals in their program contents, to the full extent deemed feasible.

Review Process

ECA will acknowledge receipt of all proposals and will review them for technical eligibility. Proposals will be deemed ineligible if they do not fully adhere to the guidelines stated herein and in the Solicitation Package. All eligible proposals will be reviewed by the program office, as well as the Public Diplomacy section overseas, where appropriate. Eligible proposals will be subject to compliance with Federal and ECA regulations and guidelines and forwarded to ECA grant panels for advisory review. Proposals may also be reviewed by the Office of the Legal Adviser or by other Department elements. Final funding decisions are at the discretion of the Department of State's Assistant Secretary for Educational and Cultural Affairs. Final technical authority for assistance awards resides with ECA's Grants Officer.

Review Criteria

Technically eligible applications will be competitively reviewed according to the criteria stated below. These criteria are not rank ordered and all carry equal weight in the proposal evaluation: Technically eligible applications will be competitively reviewed according to the criteria stated below. Proposals should adequately address each area of review. These criteria are not rank ordered.

1. Program Planning and Ability to Achieve Objectives: Program objectives should be stated clearly and precisely and should reflect the applicant's expertise in the subject area and the region. Objectives should respond to the priority topics in this announcement and should relate to the current conditions in the included countries. Objectives should be reasonable and attainable. A detailed work plan should explain step-by-step how objectives will be achieved and should include a timetable for completion of major tasks. The substance of workshops, internships, seminars, presentations and/or consulting should be described in detail. Sample training schedules should be outlined. Responsibilities of in-country partners should be clearly described.

2. Institutional Capacity: The proposal should include (1) the U.S. institution's mission and date of establishment (2) detailed information about the in-country partner institution's capacity and the history of the U.S. and in-country partnership (3) an outline of prior awards—U.S. government and private support received for the target theme/region (4) descriptions of experienced staff members who will implement the program. Proposed personnel and institutional resources should be adequate and appropriate to achieve the program's goals. The narrative should demonstrate proven ability to handle logistics. The proposal should reflect the institution's expertise in the subject area and knowledge of the conditions in the target country/region(s).

3. Cost Effectiveness and Cost Sharing: Overhead and administrative costs for the proposal, including salaries, honoraria and subcontracts for services, should be kept to a minimum. Priority will be given to proposals whose administrative costs are less than twenty-five (25) per cent of the total funds requested from ECA. Applicants are encouraged to cost share a portion of overhead and administrative expenses. Cost-sharing, including contributions from the applicant, the in-country partner, and other sources should be included in the budget.

4. Program Evaluation: Proposals must include a plan and methodology to evaluate the program's successes, both as the activities unfold and at the program's conclusion. ECA recommends that the proposal include a draft survey questionnaire or other technique (such as a series of questions for a focus group). The evaluation plan should show a clear link between program objectives and expected outcomes in the short- and medium-term, and provide a well-thought-out description of performance indicators and measurement tools.

5. Multiplier Effect/Impact: Proposals should show how the program will strengthen long-term mutual understanding and institutionalization of program goals. Applicants should describe how responsibility and ownership of the program will be transferred to the in-country participants to ensure continued activity and impact. Programs that include convincing plans for sustainability will be given top priority.

6. Follow-on Activities: Proposals should provide a plan for continued follow-on activity (beyond ECA grant period) ensuring that the ECA-supported programs are not isolated events. Follow-on activities should be clearly outlined.

7. Support of Diversity: Proposals should demonstrate substantive support of ECA's policy on diversity. Program content (orientation, evaluation, program sessions, resource materials, follow-on activities) and program administration (selection process, orientation, evaluation) should address diversity in a comprehensive and innovative manner. Applicants should refer to ECA's Diversity, Freedom and Democracy Guidelines on page four of the Proposal Submission Instructions (PSI).

Authority

Overall grant making authority for this program is contained in the Mutual Educational and Cultural Exchange Act of 1961, Pub. L. 87-256, as amended, also known as the Fulbright-Hays Act. The purpose of the Act is “to enable the Government of the United States to increase mutual understanding between the people of the United States and the people of other countries* * *; to strengthen the ties which unite us with other nations by demonstrating the educational and cultural interests, developments, and achievements of the people of the United States and other nations* * *and thus to assist in the development of friendly, sympathetic and peaceful relations between the United States and the other countries of the world.” The funding authority for the program above is provided through the Fulbright-Hays Act and the FREEDOM Support Act.

Notice

The terms and conditions published in this RFGP are binding and may not be modified by any ECA representative. Explanatory information provided by ECA that contradicts published language will not be binding. Issuance of the RFGP does not constitute an award commitment on the part of the Government. ECA reserves the right to reduce, revise, or increase proposal budgets in accordance with the needs of the program and the availability of funds. Awards made will be subject to periodic reporting and evaluation requirements.

Notification

Final awards cannot be made until funds have been appropriated by Congress, allocated and committed through internal Bureau procedures.

Dated: October 30, 2001.
Patricia S. Harrison,
Assistant Secretary for Educational and Cultural Affairs, U.S. Department of State.

[FR Doc. 01-28247 Filed 11-8-01; 8:45 am]

BILLING CODE 4710-05-P